NUCLEAR REGULATORY COMMISSION

Amergen Energy Company, LLC;

[Docket No. 50-461]

Notice of Consideration of Issuance of Amendment to Facility Operating License, Proposed No Significant Hazards Consideration Determination, and Opportunity for a Hearing

The U.S. Nuclear Regulatory Commission (the Commission) is considering issuance of an amendment to Facility Operating License No. NPF-62 issued to AmerGen Energy Company, LLC (the licensee), for operation of the Clinton Power Station (CPS) located in DeWitt County, Illinois.

The proposed amendment would allow placing a static VAR compensator into service with just one of the two protective subsystems operable.

Before issuance of the proposed license amendment, the Commission will have made findings required by the Atomic Energy Act of 1954, as amended (the Act) and the Commission's regulations.

The Commission has made a proposed determination that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards by 10 CFR 50.91(a), the licensee has provided its analysis of the issue of no significant hazards consideration, which is presented below:

1. The proposed change does not involve a significant increase in the probability or consequences of any accident previously evaluated.

The accident analyses assume that the offsite AC electrical power sources have sufficient capacity, capability, redundancy and reliability to ensure the availability of necessary power to safety-related systems so that the fuel, reactor coolant system, and containment design limits are not exceeded and that the postulated transients and accidents are effectively mitigated such that offsite radiation exposure criteria are not exceeded. The SVCs [static VAR compensators] provide voltage support, when required, for the associated offsite AC power circuits to the safety-related buses and equipment supplied by those circuits. The SVC protection systems described in LCO [Technical Specification limiting condition for operation] 3.8.11 protect safety-related equipment from potential SVC failure modes that could damage or degrade Class 1E electrical equipment.

The proposed request to add an LCO 3.0.4 exception to TS [Technical Specification] 3.8.11 Required Action A.1 would result in the ability to place an SVC back into service with only one protection subsystem Operable for up to 30 days. This request would allow an SVC to provide voltage support for onsite loads, as necessary, and thus assist in ensuring an adequate power source to safety-related electrical equipment. Restoring an SVC to service provides automatic voltage support, when required, rather than relying on manual means to monitor offsite grid conditions to ensure adequate onsite power voltage. This request continues to limit the duration of inoperability of the SVC protective subsystem to 30 days as required by LCO 3.8.11 Required Action A.1.

SVC failure, with or without an Operable protective subsystem, is a plausible initiator for those accidents evaluated in the Updated Safety Analysis Report (USAR) Chapters 6 and 15 that result from an interruption of an offsite power source; for example, a loss of RHR [residual heat removal system] during shutdown conditions when supplied by an offsite power circuit. However, no facility design changes are associated with the SVCs or their associated offsite circuits that would cause a change in component failure probability; hence reliability of the SVCs is maintained at their previous levels. Therefore, no change in plausible initiation mechanisms or frequencies has occurred. In addition, following approval of this request, the remaining protective subsystem would continue to be required Operable. When combined with the proposed 30-day limitation on the proposed request, the assumed conditions and failure probabilities used to derive the basis for the Required action and associated Completion Times for Conditions B and C of TS 3.8.11 are preserved. Thus, no significant increase in the probability of any accident previously evaluated results from this change.

For those accidents that rely on the availability of the offsite power circuit for successful mitigation, no change has been introduced to alter the assumed failure modes or effects. One SVC protective subsystem will continue to provide a level of protection consistent with the analyses provided for the basis for the Required Actions and associated Completion Times for Conditions B and C of TS 3.8.11. Thus, the assumed failure of the SVC would not alter the assumptions of the accident analyses nor consequences resulting from the accident analyses. Therefore, no significant increase in consequences of any accident evaluated previously results from this change.

Based on the above, the proposed amendment does not involve a significant increase in the probability or consequences of any accident previously evaluated.

2. The proposed change would not create the possibility of a new or different kind of accident from any accident previously evaluated.

The proposed change to the SVC protection subsystem minimum requirements will not introduce any new or different accident. No changes have been introduced into the design or operation of the SVC or the associated offsite circuit that would result in a new or different failure mode or effect. No failures previously considered incredible would be made credible as a result of allowing an LCO 3.0.4 exception to place an SVC into service with only one protective subsystem Operable. Therefore, sufficient protection against SVC malfunctions will continue to exist for the duration of this change and, thus, the proposed change does not create the possibility of a new or different kind of accident than previously evaluated.

3. The proposed change will not involve a significant reduction in the margin of safety.

Although the minimum requirements for an SVC Protection Subsystem are proposed to be changed, the SVCs will continue to be protected from all of its postulated failures. Because of the reliable design of the protective subsystems and the demonstrated reliability and predictable behavior of the SVC during its previous service, the redundant protective subsystem provides a negligible increase in the margin of safety associated with the overall protection system. Thus, the request to allow an LCO 3.0.4 exception to place an SVC into service with only one protective subsystem Operable does not involve a significant reduction in the margin of safety. Further, the benefit of having the SVC in service to support offsite circuit Operability, as needed, provides a greater margin of safety than the margin lost due to the reduction in protective system redundancy.

Based on the above, it is concluded that the proposed change does not involve a significant reduction in a margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 30 days after the date of publication of this notice will be considered in making any final determination.

Normally, the Commission will not issue the amendment until the expiration of the 30-day notice period. However, should circumstances change during the notice period such that failure to act in a timely way would result, for example, in derating or shutdown of the facility, the Commission may issue the license amendment before the expiration of the 30-day notice period, provided that its final determination is that the amendment involves no significant hazards consideration. The final determination will consider all public and State comments received. Should the Commission take this action, it will publish in the Federal Register a notice of issuance and provide for opportunity for a hearing after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Copies of written comments received may be examined at the NRC Public Document Room, One White Flint North, 11555 Rockville Pike (first floor), Rockville, Maryland.

The filing of requests for hearing and petitions for leave to intervene is discussed below.

By Wednesday November 1, 2000, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.714 which is available at the Commission's Public Document Room, One White Flint North, 11555 Rockville Pike (first floor), Rockville, Maryland, and accessible electronically through the ADAMS Public Electronic Reading Room link at the NRC Web site (http://www.nrc.gov). If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made party to the proceeding; (2) the nature and extent of the petitioner's property, financial, or other interest in the proceeding; and (3) the possible effect of any order which may be entered in the proceeding on the petitioner's interest. The petition should identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If a hearing is requested, the Commission will make a final determination on the issue of no significant hazards consideration. The final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, One White Flint North, 11555 Rockville Pike (first floor), Rockville, Maryland, by the above date. A copy of the petition should also be sent to the Office of the General Counsel, U.S. Nuclear Regulatory Commission, Washington, DC 20555-0001, and to Kevin P. Gallen, Morgan, Lewis & Bockius LLP, 1800 M Street, NW, Washington, DC 20036-5869, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated September 20, 2000, which is available for public inspection at the Commission's Public Document Room, One White Flint North, 11555 Rockville Pike (first floor), Rockville, Maryland, and accessible electronically through the ADAMS Public Electronic Reading Room link at the NRC Web site (http://www.nrc.gov).

Dated at Rockville, Maryland, this 26th day of September, 2000.
For the Nuclear Regulatory Commission.
Jon B. Hopkins,
Senior Project Manager, Section 2, Project Directorate III, Division of Licensing Project Management, Office of Nuclear Reactor Regulation.

[FR Doc. 00-25237 Filed 9-29-00; 8:45 am]

BILLING CODE 7590-01-P